POSTAL SERVICE

Elimination of Customized Postage Products

AGENCY: Postal Service™.

ACTION: Notice

SUMMARY: The Postal Service hereby provides notice that it has filed a request with the Postal Regulatory Commission to remove Customized Postage from the Mail Classification Schedule.

DATES: The request was submitted to the Postal Regulatory Commission on May 1, 2020.

FOR FURTHER INFORMATION CONTACT: Christopher Karpenko at (202) 268-2676 or Garry Rodriguez at (202) 268-7281.

SUPPLEMENTARY INFORMATION: On May 1, 2020, the United States Postal Service filed with the Postal Regulatory Commission a Request of the United States Postal Service to Remove Customized Postage from the Mail Classification Schedule pursuant to 39 U.S.C. 3642. Documents pertinent to this request are available at http://www.prc.gov, Docket No. MC2020-126.

Joshua J. Hofer,
Attorney, Federal Compliance.

[FR Doc. 2020-09703 Filed 5-11-20; 8:45 am]

BILLING CODE 7710-12-P